DEPARTMENT OF ENERGY

Office of Energy Efficiency and Renewable Energy

Proposed Agency Information Collection Extension

AGENCY: U.S. Department of Energy.

ACTION: Notice and request for comments.

SUMMARY: The Department of Energy (DOE), pursuant to the Paperwork Reduction Act of 1995, intends to extend for three years an information collection request with the Office of Management and Budget (OMB). Comments are invited on: (a) Whether the extended collection of information is necessary for the proper performance of the functions of DOE, including whether the information shall have practical utility; (b) the accuracy of DOE's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 22, 2016. If you anticipate difficulty in submitting comments within that period, contact the person listed in ADDRESSES as soon as possible.

ADDRESSES: Written comments may be sent to Sarah Olexsak, Office of Energy Efficiency and Renewable Energy (EE-3V), U.S. Department of Energy, 1000 Independence Avenue SW., Washington, DC 20585-0121, or by fax at 202-586-1600, or by email at WorkplaceCharging@ee.doe.gov.

FOR FURTHER INFORMATION CONTACT: Requests for additional information or copies of the information collection instrument and instructions should be directed to Sarah Olexsak, Office of Energy Efficiency and Renewable Energy (EE-3V), U.S. Department of Energy, 1000 Independence Avenue SW., Washington, DC 20585-0121, 202-586-8055, WorkplaceCharging@ee.doe.gov.

SUPPLEMENTARY INFORMATION: The Department of Energy is proposing to extend an information collection, pursuant to the Paperwork Reduction Act of 1995. The approved collection is being used to develop information that enables DOE to generate an annual report that provides an update on the Workplace Charging Challenge program partners' activities, as well as to report on metrics DOE is evaluating related to energy consumption, costs, numbers of employers in the program, and best practices that can be identified for the purpose of helping others take steps to deploy electric vehicle charging infrastructure. DOE is not proposing to expand the scope of the existing information collection effort.

This information collection request contains: (1) OMB No. 1910-5174; (2) Information Collection Request Title: Workplace Charging Challenge; (3) Type of Request: Renewal; (4) Purpose: DOE's Vehicle Technologies Office (VTO) has developed a voluntary initiative, the EV Everywhere Workplace Charging Challenge. This initiative, launched in January 2013, aims to increase the number of U.S. employers offering workplace charging for plug-in electric vehicles (PEVs) to their employees. Participating employers may sign on as Partners to signal their commitment to workplace charging and otherwise promote workplace charging. As designed, the initiative is intended to benefit both employees and employers.

The goal of the Workplace Charging Challenge is to increase to over 500 the number of employers offering workplace charging to their U.S. employees by the end of fiscal year 2018, the scheduled end of the program. Individual employers that make available at least one electric vehicle supply equipment (EVSE), or charger, to their employees at one major employer location count towards this goal, regardless of whether or not the employer is a partner in the Workplace Charging Challenge.

As part of this program, DOE will continue to conduct outreach to deploy workplace charging, provide technical assistance to support employers' workplace charging programs, and identify specific success stories, lessons learned, and best practices employers have deployed, thereby increasing the value of additional workplace charging programs, and facilitating the deployment EVSE. The effort is part of the larger EV Everywhere Grand Challenge, and as the Grand Challenge by necessity incorporates a deployment component, DOE uses its experience and expertise through the VTO Clean Cities Program to educate the public about PEVs, as well as help identify potential workplace charging barriers and the means to remove such barriers.

The Challenge does not endeavor to engage an exhaustive number of employers, but rather will continue to work with self-identified employers committed to leading the way in reducing petroleum consumption through the deployment of PEVs and associated charging infrastructure.

In January 2013, relying on employers' public records and communications, DOE began identifying employers that might be interested in becoming voluntary partners to the Workplace Challenge Program. To measure progress towards the Workplace Charging Challenge goal of more than 500 employers through fiscal year 2018, DOE will continue to monitor some employers directly, and others through data DOE can gather from available online resources, including the Alternative Fuels Data Center. For those employers DOE is monitoring directly, DOE will continue to develop an annual progress update and will publish the generalized results gathered. To generate this annual update, DOE will collect annually from these Workplace Charging Challenge Partners, or employers, data and narratives associated with their PEV charging program and infrastructure.

The principal objective of collecting the information DOE would like to continue to gather through the Challenge is to allow DOE to develop an objective assessment and estimate of the number of U.S. employers that have established a workplace charging program or otherwise installed EVSE, and to document specific information associated with the offering of such a program to employees. Information requested would continue to be used to establish basic information for Partner employers, which will then be used for future comparisons and analysis of instituted programs and policies. A designated representative for each participating Partner will provide the requested information. The intended respondent is expected to be aware of relevant aspects of the company's charging infrastructure and program if such exists, such that the gathering of information is not expected to be very resource consuming. DOE will continue to compile and issue an annual progress update that would provide an update on the Workplace Charging Challenge program partners' activities, as well as report on metrics DOE is evaluating related to energy consumption, costs, numbers of employers in the program, and best practices that can be identified for the purpose of helping others take steps to deploy charging infrastructure. The following are reports and documents available to date:

• Workplace Charging Challenge 2014 Progress Update: Employers Take Charge

• Workplace Charging Challenge Mid-Program Review: Employees Plug In

• Plug-In Electric Vehicle Handbook for Workplace Charging Hosts

• Install and Manage Workplace Charging

• Costs Associated With Non-Residential Electric Vehicle Supply Equipment

The Challenge effort will continue to rely on data the Partners will provide via an online response tool. The data collection would continue to address the following topic areas: (1) Charging infrastructure and use; (2) employee PEV ownership and PEV knowledge; and (3) feedback on the Challenge.

The data would continue to be compiled for the purpose of assessing and setting forth in the annual progress updates the Workplace Charging Challenge program's impact in terms of increasing both the number of employers offering workplace charging and the deployment of EVSEs and PEVs.

As is done presently, the data and subsequent analyses will allow DOE to compare historical records dynamically, and provide the opportunity for DOE to determine annual progress toward Workplace Charging Challenge goals. Calculation of progress and impacts will continue to be undertaken on an annual basis.

The Workplace Charging Challenge program is targeted at U.S. employers. Providing initial baseline information for each participating employer, which occurs only once, is expected to take 1.5 hours. Follow-up questions and clarifications for the purpose of ensuring accurate analyses may take up to 3.5 hours; (5) Annual Estimated Number of Respondents: 400; (6) Annual Estimated Number of Total Responses: 400; (7) Annual Estimated Number of Burden Hours: 2,000; (8) Annual Estimated Reporting and Recordkeeping Cost Burden: There is no cost associated with reporting and recordkeeping.

Statutory Authority: 42 U.S.C. 13233; 42 U.S.C. 13252(a)-(b); 42 U.S.C. 13255.

Issued in Washington, DC, on September 16, 2016.
Michael R. Berube,
Director, Vehicle Technologies Office, Energy Efficiency and Renewable Energy.

[FR Doc. 2016-22975 Filed 9-22-16; 8:45 am]

BILLING CODE 6450-01-P